DEPARTMENT OF THE INTERIOR

Bureau of Land Management

[LLHQ260000 L10600000.PC0000; OMB Control Number 1004-0042]

Agency Information Collection Activities; Protection, Management, and Control of Wild Horses and Burros

AGENCY: Bureau of Land Management, Interior.

ACTION: 60-Day notice and request for comments.

SUMMARY: In compliance with the Paperwork Reduction Act, the Bureau of Land Management (BLM) is proposing to renew an information collection with revisions.

DATES: Interested persons are invited to submit comments on or before December 29, 2020.

ADDRESSES: Send your comments on this information collection request (ICR) by mail, fax, or electronic mail.

Mail: U.S. Department of the Interior, Bureau of Land Management, 1849 C Street NW, Room 2134LM, Attention: Chandra Little, Washington, DC 20240.

Fax: to Chandra Little at 202-245-0050.

Electronic Mail: cclittle@blm.gov.

Please reference OMB Control Number 1004-0042 in the subject line of your comments.

FOR FURTHER INFORMATION CONTACT: To request additional information about this ICR, contact Holle' Waddell by email at hwaddell@blm.gov, or by telephone at 405-579-1860.

SUPPLEMENTARY INFORMATION: In accordance with the Paperwork Reduction Act of 1995, we provide the public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: This notice pertains to the collection of information that enables the BLM to administer its program for wild horses and burros in compliance with the Wild Free-Roaming Horses and Burros Act (16 U.S.C 1331-1340). In addition to seeking renewal of control number 1004-0042, the BLM requests revision of an existing information-collection activity and form and requests the addition of an information-collection form that has been in use without a control number.

OMB has approved form 4710-10 and its information-collection activity previously with the title, “Application for Adoption of Wild Horse(s) or Burro(s).” The BLM proposes that the information-collection activity and form be revised to enable both adoptions and purchases of wild horses or burros, as authorized by 43 U.S.C. 1333(d) and (e). The revised form that includes sales is titled, “Application for Adoption & Sale of Wild Horse(s) and Burro(s)”.

The form that has been in use without a control number is Form 4710-24, “BLM Facility Requirement Form” for use by individuals and non-governmental organizations that participate along with the BLM in joint training programs to increase the number of trained animals available for adoption or purchase.

Title of Collection: Protection, Management, and Control of Wild Horses and Burros (43 CFR Part 4700).

OMB Control Number: 1004-0042.

Form Numbers: 4710-10 and 4710-24.

Type of Review: Renewal and revision of a currently approved collection.

Respondents/Affected Public: Those who wish to adopt and obtain title to wild horses and burros.

Total Estimated Number of Annual Respondents: 7,943.

Total Estimated Number of Annual Responses: 7,943.

Estimated Completion Time per Response: Varies from 10 minutes to 30 minutes, depending on activity.

Total Estimated Number of Annual Burden Hours: 3,745.

Respondent's Obligation: Required to obtain or retain a benefit.

Frequency of Collection: On occasion.

Total Estimated Annual Non-Hour Burden Cost: $2,400.

An agency may not conduct, or sponsor and a person is not required to respond to a collection of information unless it displays a currently valid OMB control number.

The authority for this action is the Paperwork Reduction Act of 1995 (44 U.S.C. 3501 et seq).

Chandra Little,
Regulatory Analyst, Bureau of Land Management.

[FR Doc. 2020-24124 Filed 10-29-20; 8:45 am]

BILLING CODE 4310-84-P